DEPARTMENT OF AGRICULTURE

National Agricultural Library

Notice of Intent to Seek Approval to Collect Information

AGENCY: National Agricultural Library, Agricultural Research Service, USDA.

ACTION: Notice and Request for comments.

SUMMARY: In accordance with the Paperwork Reduction Act of 1995 and Office of Management and Budget (OMB) regulations, this notice announces the National Agricultural Library's intent to request approval for a new information collection form related to the Animal Welfare Information Center's (AWIC) workshop, Meeting the Information Requirements of The Animal Welfare Act. This workshop registration form requests contact, affiliation, and database searching experience information from participants. Participants include principal investigators, members of Institutional Animal Care and Use Committees, information providers, administrators of animal use programs, and veterinarians.

DATES: Comments on this notice must be received by September 16, 2002, to be assured of consideration.

ADDRESSES: Address all comments concerning this notice to Barbara Buchanan Biological Sciences Librarian, USDA, ARS, NAL, Animal Welfare Information Center, 10301 Baltimore Avenue. 4th Floor, Beltsville, MD 20705-2351. Submit electronic comments to bbuchana@nal.usda.gov.

FOR FURTHER INFORMATION CONTACT: Barbara Buchanan, Biological Sciences Librarian, Phone: 301-504-7048, or Fax: 301-504-7125

SUPPLEMENTARY INFORMATION: Title: Workshop Registration Meeting the Information Requirements of the Animal Welfare Act.

OMB Number: Not yet assigned.

Expiration Date: N/A.

Type of Request: Approval for new data collection form.

Abstract: This web-based form collects information to register respondents in the workshop, Meeting the Information Requirements of the Animal Welfare Act. Information collected includes: workshop date preference, signature, name, title, organization name, mailing address, phone and fax numbers, and email address. Five questions are asked regarding: database searching experience, Institutional Animal Care and Use Committee membership, and what they would like to learn from their participation in the workshop

Estimate of Burden: Public reporting burden for this collection of information is estimated to average 5 minutes per response.

Respondents: principal investigators, members of Institutional Animal Care and Use Committees, information providers, administrators of animal use programs, and veterinarians.

Estimated Number of Respondents: 100 per year.

Estimated Total Annual Burden on Respondents: 8.33 hours.

Comments are invited on (a) whether the proposed collection of information is necessary for the proper performance of the functions of the agency, including whether the information will have practical utility; (b) the accuracy of the agency’s estimate of the burden of the proposed collection of information, including the validity of the methodology and the assumptions used; (c) ways to enhance the quality, utility, and clarity of the information to be collected; and (d) ways to minimize the burden of the collection of information on those who respond, including the use of appropriate automated, electronic, mechanical, or other technology. Comments should be sent to the address in the preamble. All responses to this notice will be summarized and included in the request for Office of Management and Budget (OMB) approval. All comments will become a matter of public record.

Dated: June 25, 2002.
Caird E. Rexroad,
Acting Associate Administrator

[FR Doc. 02-17487 Filed 7-11-02; 8:45 am]

BILLING CODE 3410-03-P